ENVIRONMENTAL PROTECTION AGENCY

40 CFR Part 52

[EPA-R05-OAR-2006-0004; FRL-8176-5]

Approval and Promulgation of Air Quality Implementation Plans; Indiana

AGENCY: Environmental Protection Agency (EPA).

ACTION: Proposed rule.

SUMMARY: EPA is proposing to approve revisions to the Indiana State Implementation Plan (SIP) for ozone. The state is adding four chemical compounds to its list of compounds that are now exempt from being considered a volatile organic compound (VOC). Indiana also is removing a compound from the list of hazardous air pollutants (HAP). The revisions Indiana made parallel the changes EPA made to our VOC definitions and HAP list on November 29, 2004 and that became effective on December 29, 2004.

Four VOCs were found by EPA to make a negligible contribution to tropospheric ozone formation. The compounds are: 1,1,1,2,2,3,3-heptafluoro-3-methoxy-propane, 3-ethoxy-1,1,1,2,3,4,4,5,5,6,6,6-dodecafluoro-2-(trifluoromethyl)hexane, 1,1,1,2,3,3,3-heptafluoropropane, and methyl formate. Companies producing or using the four compounds will no longer need to follow the VOC rules for these compounds.

The requirements for t-butyl acetate are also modified. It is not considered a VOC for emission limits and content requirements. T-butyl acetate will still be considered a VOC for the recordkeeping, emissions reporting, and inventory requirements.

Indiana is removing ethylene glycol monobutyl ether (EGBE) (2-Butoxyethanol) from its HAP list, too. EGBE will no longer be considered a hazardous air pollutant.

DATES: Written comments must be received on or before July 12, 2006.

ADDRESSES: Submit your comments, identified by Docket ID No. EPA-R05-OAR-2006-0004, by one of the following methods:

• http://www.regulations.gov: Follow the online instructions for submitting comments.

• E-mail: mooney.john@epa.gov.

• Fax: (312) 886-5824.

• Mail: John M. Mooney, Chief, Criteria Pollutant Section, Air Programs Branch (AR-18J), U.S. Environmental Protection Agency, 77 West Jackson Boulevard, Chicago, Illinois 60604.

• Hand Delivery: John M. Mooney, Chief, Criteria Pollutant Section, Air Programs Branch (AR-18J), U.S. Environmental Protection Agency, 77 West Jackson Boulevard, Chicago, Illinois 60604. Such deliveries are only accepted during the Regional Office's normal hours of operation, and special arrangements should be made for deliveries of boxed information. The Regional Office's official hours of business are Monday through Friday, 8:30 a.m.to 4:30 p.m. excluding Federal holidays.

Please see the direct final rule which is located in the Rules section of this Federal Register for detailed instructions on how to submit comments.

FOR FURTHER INFORMATION CONTACT: Matt Rau, Environmental Engineer, Criteria Pollutant Section, Air Programs Branch (AR-18J), Environmental Protection Agency, Region 5, 77 West Jackson Boulevard, Chicago, Illinois 60604, (312) 886-6524, rau.matthew@epa.gov.

SUPPLEMENTARY INFORMATION: In the Final Rules section of this Federal Register, EPA is approving the State's SIP submission as a direct final rule without prior proposal because the Agency views this as a noncontroversial submission and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the direct final rule which is located in the Rules section of this Federal Register.

Dated: May 16, 2006.
Norman Niedergang,
Acting Regional Administrator, Region 5.

[FR Doc. 06-5251 Filed 6-9-06; 8:45 am]

BILLING CODE 6560-50-P